ENVIRONMENTAL PROTECTION AGENCY

40 CFR Part 372

[TRI-2005-0073; FRL 7533-1]

RIN 2025-AA14

Extension of Comment Period for the Toxics Release Inventory Burden Reduction Proposed Rule

AGENCY: Environmental Protection Agency (EPA).

ACTION: Proposed rule; extension of comment period.

SUMMARY: EPA issued a proposed rule in the Federal Register on October 4, 2005, titled “Toxics Release Inventory Burden Reduction Proposed Rule.” (70 FR 57822) This document extends the closing date of the comment period for that rule from December 5, 2005, to January 13, 2006.

DATES: Comments on the October 4, 2005, proposed rule, identified by the docket identification number TRI-2005-0073, must be received on or before January 13, 2006.

ADDRESSES: Detailed instructions for submitting comments are provided in the proposed rule that was published on October 4, 2005 (70 FR 57822).

FOR FURTHER INFORMATION CONTACT: Marc Edmonds, Toxics Release Inventory Program Division, Office of Information Analysis and Access (2844T), Environmental Protection Agency, 1200 Pennsylvania Ave., NW., Washington, DC 20460; telephone number: 202-566-0758; fax number: 202-566-0741; e-mail: edmonds.marc@epa.gov.

SUPPLEMENTARY INFORMATION: EPA has received requests from several groups to extend the comment period for the “Toxics Release Inventory Burden Reduction Proposed Rule.” (70 FR 57822, October 4, 2005) These groups include Environmental Defense, the National Environmental Trust, the U.S. Public Interest Research Group, and the Working Group on Community Right-to-Know. These groups have requested additional time to conduct analysis of TRI data and prepare comments on the proposed rule. EPA has considered these comments and determined that extending the comment period is an appropriate action that will not cause a significant delay in evaluating comments on the proposed rule and promulgating the final rule. Therefore, EPA is extending the comment period on the October 4, 2005, proposed rule from December 5, 2005, until January 13, 2006. All comments must be submitted by January 13, 2006, following the detailed instructions provided in the proposed rule.

Dated: November 22, 2005.
Kimberly T. Nelson,
Assistant Administrator for the Office of Environmental Information and Chief Information Officer.

[FR Doc. 05-23416 Filed 11-28-05; 8:45 am]

BILLING CODE 6560-50-P